FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201424.

Agreement Name: Siem Car Carriers AS/Seven Seals Co. Ltd. Space Charter Agreement.

Parties: Siem Car Carriers AS; Seven Seals Co., Ltd.

Filing Party: Ashley Craig, Venable LLP.

Synopsis: The Agreement authorizes the Parties to engage in a limited range of cooperative activities, including but not limited to, vessel space chartering in the trade between China and the U.S.

Proposed Effective Date: 04/18/2024.

Location: https://www2.fmc.gov/FMC.Agreements.Web/Public/AgreementHistory/86559.

Dated: April 19, 2024.
Carl Savoy,
Federal Register Alternate Liaison Officer.

[FR Doc. 2024-08757 Filed 4-23-24; 8:45 am]

BILLING CODE 6730-02-P